DEPARTMENT OF HEALTH AND HUMAN SERVICES

Centers for Disease Control and Prevention

Strengthening Non-Governmental Organizations (NGOs) and Private-Sector Care Networks in the Republic of India as Part of the President's Emergency Plan for AIDS Relief

Announcement Type: New.

Funding Opportunity Number: CDC-RFA-AA058.

Catalog of Federal Domestic Assistance Number: 93.067.

Key Dates: Application Deadline: September 9, 2005.

I. Funding Opportunity Description

Authority: This program is authorized under Section 301(a) (42 U.S.C. Sections 241 and 2421), as amended, and under Pub. L. 108-25 (United States Leadership against HIV/AIDS, Tuberculosis and Malaria Act of 2004) [22 U.S.C. 7601].

Background: President Bush's Emergency Plan for AIDS Relief has called for immediate, comprehensive and evidence-based action to turn the tide of global HIV/AIDS, and supports programs in more than 100 countries. The five-year strategy for the Emergency Plan is available at the following Internet address: http://www.state.gov/s/gac/rl/or/c11652.htm.

In India, the Emergency Plan seeks to engage both governmental and non-governmental institutions at all levels to bolster the provision of care and treatment to HIV-positive people, and to expand prevention activities to avoid new cases of HIV.

HHS' mission in India is to work with Indian and international partners to develop, evaluate and support effective implementation of interventions to prevent HIV and related illnesses, and to improve care and support of persons with HIV/AIDS. The program aims to build local capacity and promote in-country leadership and ownership of activities by focusing on national and local priorities, sharing experiences and technical information, coordinating activities with other programs, and using local expertise whenever possible.

Specifically, HHS' mission in India is to accomplish the following:

1. Provide support and training for HIV/AIDS prevention and care in health care facilities and in the community.

2. Establish training expertise for HIV/AIDS prevention and care and infrastructure development in Tamil Nadu, Andhra Pradesh and other states in India.

3. Strengthen the local and national response to HIV/AIDS in India through support and collaboration with the National AIDS Control Organization (NACO), State AIDS Control Societies, Networks of Positive People, the private, non-governmental and faith-based health sectors, and others.

Purpose

The purpose of this program is to address the HIV-related health care needs in the south Indian state of Andhra Pradesh (the state most heavily affected by HIV in India, according to Government of India reports), and, to a lesser extent, in other states in India affected by the epidemic, by strengthening the existing health care infrastructure in the private/non-government/faith-based sectors and mobilizing local institutions to commit to quality HIV-related health care. Through this cooperative agreement, funds are available to encourage independent non-government and for-profit care institutions to join together to form new or improve existing care and training networks. The activities will initially be concentrated on the south Indian state of Andhra Pradesh during the first one to two years and could expand into other Indian states in subsequent years, at the discretion of HHS in India and the grantee with the approval of the Office of the U.S. Global AIDS Coordinator.

This competition will select one or more awardees that focus on Andhra Pradesh, and possibly one or more additional awardees to focus on other parts of the country, including one or more northern Indian states in areas in which the HIV epidemic is emerging. Applicants should clearly define in which State they will initially focus the activities of this cooperative agreement, and should keep in mind that scaling up care activities in Andhra Pradesh is our first priority.

Each awardee will seek to improve and expand the clinical care of persons living with HIV/AIDS (PLWHAs) within the recipient's institutions/network of institutions, with a focus on outpatient care. “Care: includes confidential, voluntary counseling and testing (VCT); treatment of opportunistic infections (OIs); staging of HIV; nutritional support; family counseling and support; treatment of sexually transmitted infections (STIs); treatment with anti-retroviral therapy (ART), when appropriate and economically feasible; and prevention of mother-to-child transmission (PMTCT).

The activities also follow the five-year strategy of the President's Emergency Plan for AIDS Relief and the three strategies of the National Center for HIV, STD and TB Prevention (NCHSTP) of the Centers for Disease Control and Prevention (CDC) within HHS: prevention, HIV/AIDS treatment and care, and surveillance and infrastructure development. The measurable outcomes of the program will be in alignment with the goals of HHS/CDC Strategy of the Emergency Plan and NCHSTP, to reduce HIV transmission and improve care of PLWHAs. They will also contribute to the goals of the President's Emergency Plan for AIDS Relief (Emergency Plan), which include the following:

• Within five years treat more than two million HIV-infected persons with effective combination anti-retroviral therapy.

• Provide care for ten million HIV-infected and affected persons, including those orphaned and left vulnerable by HIV/AIDS.

• Prevent seven million new infections.

Specific measurable outcomes of this program include, but are not limited to, routine reporting, which verifies responsible maintenance of program expenditures and program technical activities and confirms accountability of U.S. Government funds spent in India.

This announcement is only for non-research activities supported by HHS/CDC. If applicants propose research, HHS/CDC will not review the application. For the definition of “research,” please see the HHS/CDC Web site at the following Internet address: http://www.cdc.gov/od/ads/opspoll1.htm.

Activities

Awardee activities for this program are as follows:

a. Identify project staffing needs (including administrative, management and technical staff); hire and train staff.

b. Identify furnishings, fittings, equipment and other fixed-asset procurement needs of the project and implementing partners, and acquire through transparent and competitive processes.

c. Within the first three months from the date of the award, develop a revised and updated strategic plan, to include goals, objectives, a monitoring plan, an implementation strategy, and a reporting system.

d. Improve and expand the clinical care of PLWHAs within the recipient's institutions/network of institutions with a focus on outpatient care. Care includes: confidential VCT; treatment of OIs; staging of HIV; nutritional support; family counseling and support; treatment of STIs; treatment with ART, when appropriate and economically feasible; and PMTCT.

e. Improve the HIV-related laboratory capacity of the recipient's institutions/network of institutions. The awardee should develop and implement a system of sharing expertise or technically difficult laboratory equipment within the network (and possibly with the medical community outside of the existing network). An acceptable alternative could be to organize a cost-efficient system of outsourcing some laboratory testing to independent quality labs.

f. Improve and expand HIV-related community outreach activities directly run or sponsored by the recipient's institutions/network of institutions as a whole. Outreach activities should be cost-efficient, effective, feasible, have a wide reach, be culturally and age-appropriate and be performed in local languages. Community outreach activities can include primary prevention of HIV; family counseling of PLWHAs; confidential VCT; STI care and linkages; voluntary, age-appropriate family planning; nutritional support; ART support, etc.

g. Develop a functional relationship and linkages to national level, district level and/or state-level networks of HIV-positive people, where these positive networks already exist; and help develop such positive networks where they do not currently exist.

h. Develop and initiate a system for creating the human capacity to meet the above HIV care and support needs. This includes developing and implementing plans to increase interest in HIV care; remove any stigma and discrimination from applicant institutions; and provide ongoing, innovative hands-on training in local languages to medical personnel (physicians, nurses, pharmacists, lab technicians, community health workers, counselors, etc.) and management (institutional leaders, etc.).

i. Systematically document programmatic activities and institutional capacities over time. Awardees should use formal monitoring and evaluation tools, such as asset mapping, community assessments, and pre/post-evaluation of specific trainings or interventions, initially and then periodically, as appropriate.

j. Participate in HHS-sponsored meetings and other HIV-related meetings, conferences and/or workshops, as appropriate.

k. Make use of existing guidelines, curricula and clinical algorithms developed by the Indian National AIDS Control Organization (NACO), the World Health Organization (WHO), HHS, the Office of the U.S. Global AIDS Coordinator, the University of Washington International Training and Education Center for HIV/AIDS (I-TECH), and others, as appropriate.

l. Create and/or strengthen linkages with Indian federal and state Government health-care institutions, as appropriate (i.e., State AIDS Control Societies, primary health care clinics, Departments of Medical Education, the national/state Tuberculosis (TB) programs, nutrition support programs, etc.).

m. Formalize the structures and rules of the applicant's networks of medical care institutions, if required. This includes creating by-laws, a management/leadership team, developing and/or strengthening decision-making processes, funding and accounting mechanisms, etc.

n. Provide in-kind support equal to or greater than 15 percent of the funding granted by HHS in year one, and 25 percent in years 2-5.

o. Provide HHS in India with semi-annual reports, according to guidelines developed by the Office of the U.S. Global AIDS Coordinator.

Administration

Comply with all HHS management requirements for meeting participation and progress and financial reporting for this cooperative agreement. (See HHS Activities and Reporting sections below for details.) Comply with all policy directives established by the Office of the U.S. Global AIDS Coordinator.

In a cooperative agreement, HHS staff is substantially involved in the program activities, above and beyond routine grant monitoring.

HHS Activities for this program are as follows:

1. Organize an orientation meeting with the grantee to brief them on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide technical assistance, as mutually agreed upon, and revise annually during validation of the first and subsequent annual work plans. This could include expert technical assistance and targeted training activities in specialized areas, such as strategic information, project management, confidential counseling and testing, palliative care, treatment literacy, and adult learning techniques.

9. Provide in-country administrative support to help grantee meet U.S. Government financial and reporting requirements.

Please note: Either HHS staff or staff from organizations that have successfully competed for funding under a separate HHS contract, cooperative agreement or grant will provide technical assistance and training.

Additional HHS activities for this program are as follows:

1. Provide input into the development of the overall program strategy, including collaboration in the selection of key personnel to be involved in the activities to be performed under this agreement.

2. Define, in collaboration with the grantee(s) and other HHS partners, the specific geographic reach of the grantee(s) activities, in consultation with the Office of the U.S. Global AIDS Coordinator.

3. Provide clearly defined goals and desired outcomes for activities; and provide ongoing technical assistance to the recipient, and its member institutions and external partners in local languages, if possible. This technical assistance could come directly from HHS staff or through in-country partners/contractors of the U.S. Government.

4. Help encourage and strengthen linkages to, and cooperation with, Indian Federal and State Government institutions and programs.

5. Convene meetings, workshops and consultations between recipients, with recipients and others (U.S. Government partners, HIV experts, etc.), as appropriate.

6. Collaborate in the development of a system for record-keeping and information access.

7. Collaborate in the development of a monitoring and evaluation system; and provide technical assistance, as needed, in the monitoring and evaluation of program activities.

8. Assist, as needed, in appropriate analysis and interpretation of program evaluation data collected.

9. Provide support in all aspects of the implementation of the cooperative agreement. This will include, but will not be limited to, working with the network of institutions to review existing materials available in local languages for PLWHAs; develop information and education resources for PLWHAs; etc.

10. Provide and promote liaison and assist in coordinating activities, as required, between the awardee(s) and the activities to be performed under this agreement and other HHS and U.S. Government programs in India in training, care, support, and other activities.

HHS India staff, HHS/CDC Atlanta Staff or U.S. Government partners may provide technical and administrative/management assistance.

II. Award Information

Type of Award: Cooperative Agreement. HHS involvement in this program is listed in the Activities Section above.

Fiscal Year Funds: 2005.

Approximate Total Funding: $300,000-$750,000 (year one). $300,000-$1,000,000 (each of years two-five). (This amount is an estimate, and is subject to availability of funds.)

Approximate Number of Awards: One-four.

Approximate Average Award: $150,000-$300,000 per award. (This amount is for the first 12-month budget period, and includes direct costs.)

Floor of Award Range: $150,000.

Ceiling of Award Range: $500,000. (This ceiling is for the first 12-month budget period.)

Anticipated Award Date: September 15, 2005.

Budget Period Length: 12 months.

Project Period Length: Five years.

Throughout the project period, HHS' commitment to continuation of awards will be conditioned on the availability of funds, evidence of satisfactory progress by the recipient (as documented in required reports), and the determination that continued funding is in the best interest of the Federal Government, as determined by the annual review and approval of Country Operational Plans for the President's Emergency Plan for AIDS Relief, managed by the Office of the U.S. Global AIDS Coordinator.

III. Eligibility Information

III.1. Eligible Applicants

Applications may be submitted by for-profit organizations, as well as public and private non-profit organizations, such as:

• Universities

• Colleges

• Research institutions

• Hospitals

• Community-based organizations

• Faith-based organizations

In addition, eligible applicants will:

• Be Indian owned/operated non-governmental organizations; network, trust or private enterprise.

• Have major ongoing organizational activity in the delivery of quality medical care (and/or the training of medical personnel in local language).

• Have established (or soon to be established) medical care activities in a minimum of four districts in Andhra Pradesh. If applying for one of the additional awards outside of Andhra Pradesh, have established medical care activities in a minimum of four districts in the Indian state of focus (applicant's choice).

• Be committed to ensuring expanded quality HIV medical and community care services within their network/organization, and to providing local/state-level leadership in HIV related issues.

• Be recognized and respected by the Government of India at both the national and state levels.

Competition for this cooperative agreement is limited to the types of organizations listed above because of the uniqueness of the activities for this project. Awardees must have specific knowledge and capability to work in urban and rural locations and in multiple and diverse geographic locations throughout India. The types of organizations listed above would have direct experience, and on-the-ground capacity and knowledge, to perform these activities in India.

Competition is limited to agencies that possess the following:

• A proven track record in developing and successfully managing effective and sustainable medical and community care activities and/or the training of medical personnel in local languages.

• Established medical and/or community care activities in several areas and the experience and ability to effectively link with other public and private health care institutions/providers to deliver quality care.

• The commitment to establish medical care activities in several areas and willingness and ability to effectively link with other health care institutions/providers to deliver quality care.

• Extensive knowledge of the Indian public and private health structure—from the national to the district levels.

• Credentials that allow the organization to work legally in India, and an existing office in one or more critical locations in India.

Furthermore, a guiding principle of the President's Emergency Plan for AIDS Relief, which implements assistance for HIV/AIDS in countries throughout the world, calls for the support and development of local expertise and capacity so national programs can achieve results and monitor and evaluate their activities for the long term. Through the President's Emergency Plan, HHS in India seeks to support and foster the development of indigenous leadership, which is critical to developing a sustainable and successful response to the AIDS epidemic in India. In adherence to these guiding principles, competition for the cooperative agreement is therefore limited to the organizations listed above.

III.2. Cost-Sharing or Matching Funds

Applicant must provide direct funds or in-kind services (equipment, supplies, salaries, etc.) of at least 15 percent of the annual HHS award for year one, and 25 percent for years two-five. [For example, if the applicant asked for $100,000 from HHS in the first year and $300,000 in year two, it must provide at least $15,000 in additional funds or in-kind services directly to the project in year one, and $75,000 in year two.]

III.3. Other

If applicants request a funding amount greater than the ceiling of the award range, HHS/CDC will consider the application non-responsive, and it will not be entered into the review process. You will be notified that your application did not meet the submission requirements.

Special Requirements

If your application is incomplete or non-responsive to the special requirements listed in this section, it will not be entered into the review process. We will notify you that your application did not meet submission requirements.

• HHS/CDC will consider late applications non-responsive. See section “IV.3. Submission Dates and Times” for more information on deadlines.

• Applications that cannot provide supporting documentation (such as: letters, legal documents, etc.) in the appendices will be considered unresponsive. At a minimum, please provide:

1. Proof of legal status in India.

2. Proof of work in the health sector.

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161-1.

Electronic Submission: HHS strongly encourages you to submit your application electronically by using the forms and instructions posted for this announcement at http://www.grants.gov, the official Federal agency wide E-grant Web site. Only applicants who apply on-line are permitted to forego paper copy submission of all application forms.

Paper Submission: Application forms and instructions are available on the HHS/CDC Web site, at the following Internet address: http://www.cdc.gov/od/pgo/forminfo.htm.

If you do not have access to the Internet, or if you have difficulty accessing the forms on-line, you may contact the HHS/CDC Procurement and Grants Office Technical Information Management Section (PGO-TIM) staff at: 1-770-488-2700. We can mail application forms to you.

IV.2. Content and Form of Submission

Application: You must submit a project narrative with your application forms. You must submit the narrative in the following format:

• Maximum number of pages: 20. If your narrative exceeds the page limit, we will only review the first pages within the page limit.

• Font size: 12 point unreduced.

• Double-spaced.

• Paper size: 8.5 by 11 inches.

• Page margin size: One inch.

• Printed only on one side of page.

• Held together only by rubber bands or metal clips; not bound in any other way.

• Number all pages of the application sequentially from page one (Application Face Page) to the end of the application, including charts, figures, tables, and appendices.

• Application must be submitted in English.

Your narrative should address activities to be conducted over the entire project period, and must include the following items in the order listed:

1. Executive Summary (one page) to include a brief description of your organization's strengths and a summary of activities that you are proposing under this RFA.

2. Narrative (to include four sections as follows):

Section A: Description of your organization, institutions, existing infrastructure and current scope of activities. Include: details regarding the specific areas you serve; the assets and deficiencies of the communities you serve or hope to serve; your organizational strengths and weaknesses; an overview of your organization's (and/or member institutions’) five year overall strategic plan; and any ongoing monitoring and evaluation (M&E) or quality improvement efforts. Also include the following as appendices:

• One or more map illustrations outlining the areas you currently serve and areas you hope to move into in the next two years. Clearly note on the map where your member institutions are located, as well as a general category of these institutions (i.e., hospitals, colleges, clinics, social service centers, etc.).

• A single detailed chart listing member institutions. Next to each unique institution or project site, list the activities being undertaken there, the number of technical staff (physicians, nurses, outreach workers, etc.), and any other relevant information concerning staff. Please provide an estimate of the size of the population being served by the staff, and anything else you feel is relevant to understanding your organization.

Section B: Describe your existing or proposed network that is or will be responsible for overseeing and enacting the HIV-related activities of this project. Specifically, please describe:

• How this network was, or will be, created and maintained.

• The scope of work that is conducted, or is proposed to be conducted, by the network.

• The mechanism in which this network makes decisions, gathers information, and communicates with its member institutions. If the network is not yet established, the mechanism in which it proposes to communicate.

• The structure of the network (or the proposed network), including staff (or proposed staff) and other active participants.

• The relationship between the network (or proposed network) leaders/staff and member institutions (i.e., How does the network influence individual institutions? Has this been effective?).

• Any plans on how the network or the proposed network will be strengthened.

Section C: Describe, in as much detail as possible, your proposed HIV-related activities and provide a detailed plan that discusses how you will accomplish and maintain/sustain these activities. Discuss your long-term vision (years three to five); however, provide detailed activities of years one to two in the state of Andhra Pradesh and in other states in India. For years one to two, include information on the staffing needs associated with this project and your ability to meet these needs; your training plan; your scale up strategies; and your current M&E plan, or proposal for developing a focused and efficient M&E system. Also include information on other HIV-related funding sources you receive and how these new CDC funds will add to (and not duplicate) the activities carried out under existing funding sources.

Section D: Describe the commitment of the applicant, member institutions and other proposed partners to improve the quality and scope of HIV-related services. Specifically, the applicant should provide evidence of support by key institutional leaders and field level staff. Examples of ways to provide such evidence may be included in the appendices and may include:

• A summary of current HIV-related activities and care within the network or individual institutions.

• Letters of support by member institutions, network leaders and/or outside community groups (attach as appendix number one; NOT to be included in the 20 page limit).

• A detailed description of your proposed in-kind support for this project.

• A summary of any efforts, to date, to collect and analyze HIV-related data in the communities you serve (i.e., HIV prevalence data, community needs assessment, asset mapping, VCT data, etc.). Details can be included as part of appendix number two.

3. Budget and Justification:

A budget and budget justification for the entire project period should be included. While summary budgets may be provided for years two through five, a full budget and budget justification for year one must be included. In the year one budget, the specific overhead costs should be clear. The applicant should clearly delineate what the CDC, via the cooperative agreement, will pay for and what the applicant institution (as part of the in-kind requirement) will pay for. The budget and justification will not be counted in the page limit stated above.

The following information must be included in the application appendices: Supporting documentation (i.e., letters, legal documents, etc.) to verify legal status in India and provide proof of work in the health sector.

You may include additional information in the application appendices. The appendices will not count toward the narrative page limit. This additional information may include the following:

• Curriculum Vitas and/or Resumes.

• Organizational Charts/Maps.

• Letters of Support.

• A summary of current HIV-related activities and care programs being carried out within the network or individual institutions.

• Letters of support by member institutions, network leaders and/or outside community members/organizations.

• A detailed description of your proposed in-kind support for this project.

• A summary of any efforts, to date, to collect and analyze HIV-related data in the communities you serve (i.e., HIV prevalence data, community needs assessment, asset mapping, VCT data, etc.).

You must have a Dun and Bradstreet Data Universal Numbering System (DUNS) number to apply for a grant or cooperative agreement from the Federal Government. The DUNS number is a nine-digit identification number, which uniquely identifies business entities. Obtaining a DUNS number is easy and there is no charge. To obtain a DUNS number, access http://www.dunandbradstreet.com or call 1-866-705-5711. For more information, see the CDC web site at: http://www.cdc.gov/od/pgo/funding/grantmain.htm.

If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 9, 2005.

Explanation of Deadlines: Applications must be received in the HHS/CDC Procurement and Grants Office by 4 p.m. eastern time on the deadline date.

You may submit your application electronically at http://www.grants.gov. We consider applications completed online through Grants.gov as formally submitted when the applicant organization's Authorizing Official electronically submits the application to http://www.grants.gov. We will consider electronic applications as having met the deadline if the application organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because: (1) Carrier error, when the carrier accepted the package with a guarantee for delivery by the closing date and time; or (2) significant weather delays or natural disasters, you will have the opportunity to submit documentation of the carrier's guarantee. If the documentation verifies a carrier problem, HHS/CDC will consider the submission as having been received by the deadline.

If you submit a hard copy application, HHS/CDC will not notify you upon receipt of your submission. If you have a question about the receipt of your application, first contact your courier. If you still have a question, contact the PGO-TIM staff at: 1-770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Awards will allow recipients reimbursement of pre-award costs, such as photocopying, fax, postage or delivery charges and translation.

• Funds may be spent for reasonable program purposes, including personnel, travel, supplies, and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization (WHO). Indirect Costs will not be paid (either directly or through sub-award) to organizations located outside the territorial limits of the United States or to international organizations regardless of their location.

• The applicant may contract with other organizations under this program; however, the applicant must perform a substantial portion of the activities (including program management and operations, and delivery of prevention services for which funds are required).

• You must obtain an annual audit of these HHS/CDC funds (program-specific audit) by a U.S.-based audit firm with international branches and current licensure/authority in-country, and in accordance with International Accounting Standards or equivalent standard(s) approved in writing by HHS/CDC.

• A fiscal Recipient Capability Assessment may be required, prior to or post award, in order to review the applicant's business management and fiscal capabilities regarding the handling of U.S. Federal funds.

• Funds received from this announcement will not be used for the purchase of antiretroviral drugs for treatment of established HIV infection (with the exception of nevirapine in Prevention of Mother-to-Child Transmission (PMTCT) cases with prior written approval), occupational exposures, and non-occupational exposures; and will not be used for the purchase of machines and reagents to conduct the necessary laboratory monitoring for patient care.

• No funds appropriated under this announcement shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address

Electronic Submission: HHS/CDC strongly encourages you to submit electronically at: http://www.grants.gov. You will be able to download a copy of the application package from http://www.grants.gov, complete it offline, and then upload and submit the application via the Grants.gov site. We will not accept e-mail submissions. If you are having technical difficulties in Grants.gov, you may reach them by e-mail at http://support@grants.gov or by phone at 1-800-518-4726 (1-800-518-GRANTS). The Customer Support Center is open from 7 a.m. to 9 p.m. eastern time, Monday through Friday.

HHS/CDC recommends that you submit your application to Grants.gov early enough to resolve any unanticipated difficulties prior to the deadline. You may also submit a back-up paper submission of your application. We must receive any such paper submission in accordance with the requirements for timely submission detailed in Section IV.3. of the grant announcement.

You must clearly mark the paper submission: “BACK-UP FOR ELECTRONIC SUBMISSION.”

The paper submission must conform to all requirements for non-electronic submission. If we receive both electronic and back-up paper submissions by the deadline, we will consider the electronic version the official submission.

We strongly recommended that you submit your grant application by using Microsoft Office products (e.g., Microsoft Word, Microsoft Excel, etc.). If you do not have access to Microsoft Office products, you may submit a PDF file. You may find directions for creating PDF files on the Grants.gov web site. Use of file formats other than Microsoft Office or PDF may result in your file being unreadable for our staff; or

Paper Submission: Submit the original and two hard copies of your application by mail or express delivery service to the following: Technical Information Management-CDC-RFA-AA058, CDC Procurement and Grants Office, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application and they will be an element of evaluation.

We will evaluate your application against the following criteria:

1. The current ability of the applicant and its member institutions to provide high-quality health care and community outreach in local languages to a significant portion of that state's population and any ongoing monitoring and evaluation or quality-assurance activities within these institutions. (25 points).

Does the applicant show, through its' experience and the written proposal, that it has a firm understanding of health care and community outreach, along with expertise in the existing systems of health care delivery and medical training in India? Does the applicant's current network reach a large segment of the at-risk populations of the state?

2. Strength of applicant's existing or proposed network. (25 points).

Is the network firmly established and credible? Is there evidence of institutional support for establishing or strengthening their network? Is the existing or proposed network likely to be maintained during or beyond the project period? Does the network exhibit value beyond this project? Does the network have the commitment and interest to work collaboratively with outside groups and agencies?

3. Quality and feasibility of proposed activities. (25 points).

Does the applicant demonstrate an understanding of the national cultural and political context and the technical and programmatic areas covered by the project? Does the applicant display knowledge of the five-year strategy and goals of the President's Emergency Plan, such that it can build on these to develop a comprehensive, collaborative project to reach underserved populations in India and meet the goals of the Emergency Plan? Are the details of the proposed activities (for the entire project period) clearly presented in the application? While summary details for years three through five are acceptable, specific and clearly presented details for years one and two are required. Is staffing, professional personnel, and leadership in place; if not, is there a proposed plan to meet staffing needs to carry out the proposed program? Are program strategies well thought out and clearly defined, including evidence of innovation and creativity? Is scale up and sustainability addressed? Is there an effective monitoring and evaluation plan proposed, or currently in place, and can initial assessment activities be immediately started?

4. Commitment of the applicant and its member institutions to improving the quality and scope of HIV-related care. (25 points).

Is there evidence of leadership support and of evidence of current or past efforts to improve HIV care? Are there letters of support by outside groups and member organizations? Does the level and quality of in-kind support reflect a commitment to HIV care by the applicant? Does the applicant describe a plan to progressively build the capacity of local organizations and of target beneficiaries and communities to respond to the epidemic?

5. Budget. (Reviewed, but not scored).

Is the budget for conducting the activity itemized, well-justified, and consistent with stated activities and planned program activities?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

It is possible for one organization to apply as lead grantee with a plan that includes partnering with other organizations, preferably local. Although matching funds are not required, preference will go to organizations that can leverage additional funds to contribute to program goals.

Applications will be funded in order by score and rank determined by the review panel. HHS/CDC will provide justification for any decision to fund out of rank order.

V.3. Anticipated Announcement and Award Dates:

September 15, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-8 Public Health System Reporting Requirements

• AR-12 Lobbying Restrictions

• AR-14 Accounting System Requirements

• AR-25 Release and Sharing of Data

Applicants can find additional information on these requirements on the HHS/CDC Web site at the following Internet address: http://www.cdc.gov/od/pgo/funding/ARs.htm.

You need to include an additional Certifications form from the PHS 5161-1 application ed in your Grants.gov electronic submission only. Refer to: http://www.cdc.gov/od/pgo/funding/PHS5161-1-Certificates.pdf. Once you have filled out the form, attach it to your Grants.gov submission as Other Attachment Forms.

VI.3. Reporting Requirements

You must provide HHS/CDC with an original, plus two hard copies of the following reports:

1. Interim progress report, due no less than 90 days before the end of the budget period. The progress report will serve as your non-competing continuation application, and must contain the following elements:

a. Current budget period activities objectives.

b. Current budget period financial progress.

c. New budget period program proposed activity objectives.

d. Budget.

e. Measures of effectiveness.

f. Additional requested information.

2. Financial status report and annual progress report, no more than 90 days after the end of the budget period.

3. Final financial and performance reports, no more than 90 days after the end of the project period.

4. Annual progress report, due no less than 30 days after the end of the budget period. This report will include progress to date, plans for upcoming activities, and will report on a specific set of indicators developed in collaboration with CDC GAP India. This report must be provided to the CDC GAP office in New Delhi.

These reports must be mailed to the Grants Management Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, telephone: 1-770-488-2700.

For program technical assistance, contact: Michael Friedman, MD, HHS/CDC, Global AIDS Program (India), Country Team, c/o U.S. Consulate General, 220 Mount Road, Chennai, India 600 006, telephone: 91-44-2811-2000, e-mail: FriedmanM@gapcdcin.org; or Nancy Hedemark Nay, MPH (Project Officer), HHS/CDC, Global AIDS Program (India), Country Team, c/o U.S. Embassy, Shantipath, Chanakyapuri, New Delhi, India 110 021, telephone: 91-11-2419-8000, e-mail: NHN1@cdc.gov.

For financial, grants management, or budget assistance, contact: Shirley Wynn, Grants Management Specialist, CDC Procurement and Grants Office, U.S. Department of Health and Human Services, 2920 Brandywine Road, Atlanta, GA 30341, telephone: 770-488-1515, e-mail: zbx6@cdc.gov.

VIII. Other Information

Applicants can find this and other HHS/CDC funding opportunity announcements on the HHS/CDC Web site, Internet address: http://www.cdc.gov (Click on “Funding,” then “Grants and Cooperative Agreements”), and on the Web site of the HHS Office of Global Health Affairs, Internet address: http://www.globalhealth.gov.

Dated: August 9, 2005.
William P. Nichols,
Director, Procurement and Grants Office, Centers for Disease Control and Prevention, U.S. Department of Health and Human Services.

[FR Doc. 05-16170 Filed 8-15-05; 8:45 am]

BILLING CODE 4163-18-P